DEPARTMENT OF LABOR

Employment and Training Administration

Notice of Determinations Regarding Eligibility To Apply for Trade Adjustment Assistance

In accordance with the Section 223 (19 U.S.C. 2273) of the Trade Act of 1974 (19 U.S.C. 2271, et seq.) (“Act”), as amended, the Department of Labor herein presents summaries of determinations regarding eligibility to apply for trade adjustment assistance under Chapter 2 of the Act (“TAA”) for workers by (TA-W) number issued during the period of June 1, 2020 through June 30, 2020. (This Notice primarily follows the language of the Trade Act. In some places however, changes such as the inclusion of subheadings, a reorganization of language, or “and,” “or,” or other words are added for clarification.)

Section 222(a)—Workers of a Primary Firm

In order for an affirmative determination to be made for workers of a primary firm and a certification issued regarding eligibility to apply for TAA, the group eligibility requirements under Section 222(a) of the Act (19 U.S.C. 2272(a)) must be met, as follows:

(1) The first criterion (set forth in Section 222(a)(1) of the Act, 19 U.S.C. 2272(a)(1)) is that a significant number or proportion of the workers in such workers' firm (or “such firm”) have become totally or partially separated, or are threatened to become totally or partially separated; AND (2(A) or 2(B) below)

(2) The second criterion (set forth in Section 222(a)(2) of the Act, 19 U.S.C. 2272(a)(2)) may be satisfied by either (A) the Increased Imports Path, or (B) the Shift in Production or Services to a Foreign Country Path/Acquisition of Articles or Services from a Foreign Country Path, as follows:

(A) Increased Imports Path:

(i) the sales or production, or both, of such firm, have decreased absolutely; AND (ii and iii below)

(ii)(I) imports of articles or services like or directly competitive with articles produced or services supplied by such firm have increased; OR

(II)(aa) imports of articles like or directly competitive with articles into which one or more component parts produced by such firm are directly incorporated, have increased; OR

(II)(bb) imports of articles like or directly competitive with articles which are produced directly using the services supplied by such firm, have increased; OR

(III) imports of articles directly incorporating one or more component parts produced outside the United States that are like or directly competitive with imports of articles incorporating one or more component parts produced by such firm have increased; AND

(iii) the increase in imports described in clause (ii) contributed importantly to such workers' separation or threat of separation and to the decline in the sales or production of such firm; OR

(B) Shift in Production or Services to a Foreign Country Path OR Acquisition of Articles or Services from a Foreign Country Path:

(i) (I) There has been a shift by such workers' firm to a foreign country in the production of articles or the supply of services like or directly competitive with articles which are produced or services which are supplied by such firm; OR

(II) such workers' firm has acquired from a foreign country articles or services that are like or directly competitive with articles which are produced or services which are supplied by such firm; AND

(ii) the shift described in clause (i)(I) or the acquisition of articles or services described in clause (i)(II) contributed importantly to such workers' separation or threat of separation.

Section 222(b)—Adversely Affected Secondary Workers

In order for an affirmative determination to be made for adversely affected secondary workers of a firm and a certification issued regarding eligibility to apply for TAA, the group eligibility requirements of Section 222(b) of the Act (19 U.S.C. 2272(b)) must be met, as follows:

(1) a significant number or proportion of the workers in the workers' firm or an appropriate subdivision of the firm have become totally or partially separated, or are threatened to become totally or partially separated; AND

(2) the workers' firm is a supplier or downstream producer to a firm that employed a group of workers who received a certification of eligibility under Section 222(a) of the Act (19 U.S.C. 2272(a)), and such supply or production is related to the article or service that was the basis for such certification (as defined in subsection 222(c)(3) and (4) of the Act (19 U.S.C. 2272(c)(3) and (4)); AND

(3) either—

(A) the workers' firm is a supplier and the component parts it supplied to the firm described in paragraph (2) accounted for at least 20 percent of the production or sales of the workers' firm; OR

(B) a loss of business by the workers' firm with the firm described in paragraph (2) contributed importantly to the workers' separation or threat of separation determined under paragraph (1).

Section 222(e)—Firms Identified by the International Trade Commission

In order for an affirmative determination to be made for adversely affected workers in firms identified by the International Trade Commission and a certification issued regarding eligibility to apply for TAA, the group eligibility requirements of Section 222(e) of the Act (19 U.S.C. 2272(e))must be met, by following criteria (1), (2), and (3) as follows:

(1) the workers' firm is publicly identified by name by the International Trade Commission as a member of a domestic industry in an investigation resulting in—

(A) an affirmative determination of serious injury or threat thereof under section 202(b)(1) of the Act (19 U.S.C. 2252(b)(1)); OR

(B) an affirmative determination of market disruption or threat thereof under section 421(b)(1)of the Act (19 U.S.C. 2436(b)(1)); OR

(C) an affirmative final determination of material injury or threat thereof under section 705(b)(1)(A) or 735(b)(1)(A) of the Tariff Act of 1930 (19 U.S.C. 1671d(b)(1)(A) and 1673d(b)(1)(A)); AND

(2) the petition is filed during the 1-year period beginning on the date on which—

(A) a summary of the report submitted to the President by the International Trade Commission under section 202(f)(1) of the Trade Act (19 U.S.C. 2252(f)(1)) with respect to the affirmative determination described in paragraph (1)(A) is published in the Federal Register under section 202(f)(3) (19 U.S.C. 2252(f)(3)); OR

(B) notice of an affirmative determination described in subparagraph (B) or (C)of paragraph (1) is published in the Federal Register; AND

(3) the workers have become totally or partially separated from the workers' firm within—

(A) the 1-year period described in paragraph (2); OR

(B) notwithstanding section 223(b) of the Act (19 U.S.C. 2273(b)), the 1-year period preceding the 1-year period described in paragraph (2).

Affirmative Determinations for Trade Adjustment Assistance

The following certifications have been issued. The date following the company name and location of each determination references the impact date for all workers of such determination.

The following certifications have been issued. The requirements of Section 222(a)(2)(A) (Increased Imports Path) of the Trade Act have been met.

TA-W No. | Subject firm | Location | Impact date
95,120 | Trelleborg Sealing Solutions El Segundo, Inc., Trelleborg Sealing Solutions US, Inc | El Segundo, CA | August 23, 2018.
95,405 | Golden Star, Inc | Atchison, KS | November 22, 2018.
95,447 | El Dorado Paper Bag Manufacturing Company, Inc | El Dorado, AR | December 4, 2018.
95,499 | Castwell Products, LLC | Skokie, IL | December 19, 2018.
95,685 | Armstrong Flooring, Inc., Affiliated Temporary Help | South Gate, CA | February 12, 2019.
95,805 | Russell Stover Chocolates, LLC, Chocoladefabriken Lindt & Sprüngli, Express Employment Professionals, etc | Montrose, CO | March 10, 2019.
95,902 | American Crafts, LLC | Lindon, UT | April 27, 2019.
95,902A | American Crafts, LLC | Kansas City, MO | April 27, 2019.
95,914 | The Boeing Company, Boeing Commercial Aircraft (BCA), Dunhill Staffing Systems Inc., etc | Tukwila, WA | May 5, 2019.
95,914A | Leased workers from American Cybersystems Inc., etc., Apollo Professional Solutions, Aquent, Artech Information Systems, etc | Tukwila, WA | February 28, 2020.
95,914B | The Boeing Company, Boeing Commercial Aircraft (BCA), Dunhill Staffing Systems Inc., etc | Portland, OR | May 5, 2019.
95,914C | Leased workers from Apollo Professional Solutions Inc., etc., The Boeing Company, Boeing Commercial Aircraft (BCA) | Portland, OR | February 28, 2020.
95,935 | The Boeing Company, Boeing Commercial Aircraft, American Cybersystems, etc | Huntsville, AL | May 21, 2019.
95,935A | The Boeing Company, Boeing Commercial Aircraft (BCA) | Anchorage, AK | May 21, 2019.
95,935AA | The Boeing Company, Boeing Commercial Aircraft (BCA), CTS Technical Services Inc., etc | Working in Multiple Cities Throughout S. Carolina, SC | September 6, 2019.
95,935B | The Boeing Company, Boeing Commercial Aircraft (BCA), American Cybersystems, etc | Working in Multiple Cities Throughout Arizona, AZ | May 21, 2019.
95,935BB | The Boeing Company, Boeing Commercial Aircraft (BCA), Strom Aviation Inc., Volt Services | Ellsworth Air Force Base, SD | May 21, 2019.
95,935C | The Boeing Company, Boeing Commercial Aircraft (BCA), American Cybersystems, Ateeca, etc | Working in Multiple Cities Throughout California, CA | May 21, 2019.
95,935CC | The Boeing Company, Boeing Commercial Aircraft (BCA) | Memphis, TN | May 21, 2019.
95,935D | The Boeing Company, Boeing Commercial Aircraft, American Cybersystems, Ateeca, etc | Colorado Springs, CO | May 21, 2019.
95,935DD | The Boeing Company, Boeing Commercial Aircraft (BCA), American Cybersystems, Ateeca, etc | Working in Multiple Cities Throughout Texas, TX | May 21, 2019.
95,935E | The Boeing Company, Boeing Commercial Aircraft (BCA), Ateeca Inc., Triad Systems International | Working in Multiple Cities Throughout Connecticut, CT | May 21, 2019.
95,935EE | The Boeing Company, Boeing Commercial Aircraft, Chipton Ross, CTS Technical Services, etc | Working in Multiple Cities Throughout Utah, UT | May 21, 2019.
95,935F | The Boeing Company, Boeing Commercial Aircraft (BCA), Apollo Professional Solution, etc | Working in Multiple Cities Throughout Florida, FL | May 21, 2019.
95,935FF | The Boeing Company, Boeing Commercial Aircraft (BCA), Aerotek Inc., Chipton Ross Inc., etc | Working in Multiple Cities Throughout Virgnia, VA | May 21, 2019.
95,935G | The Boeing Company, Boeing Commercial Aircraft (BCA), Apollo Professional Solutions, etc | Working in Multiple Cities Throughout Georgia, GA | May 21, 2019.
95,935GG | Leased workers from American Cybersystems, etc., The Boeing Company, Boeing Commercial Aircraft (BCA) | Working in Multiple Cities Throughout S. Carolina, SC | May 21, 2019.
95,935H | The Boeing Company, Boeing Commercial Aircraft (BCA), Chipton Ross Inc. (Nevada) | Joint Base Pearl Harbor-Hickam, HI | May 21, 2019.
95,935I | The Boeing Company, Boeing Commercial Aircraft (BCA) | Mountain Home Air Force Base, ID | May 21, 2019.
95,935J | The Boeing Company, Boeing Commercial Aircraft (BCA), Moseley Technical Services Inc., etc | Chicago, IL | May 21, 2019.
95,935K | The Boeing Company, Boeing Commercial Aircraft (BCA), Ateeca Inc., PDS Technical Services, etc | Wichita, KS | May 21, 2019.
95,935L | The Boeing Company, Boeing Commercial Aircraft (BCA) | Fort Campbell, KY | May 21, 2019.
95,935M | The Boeing Company, Boeing Commercial Aircraft (BCA), American Cybersystems, etc | Working in Multiple Cities Throughout Louisiana, LA | May 21, 2019.
95,935N | The Boeing Company, Boeing Commercial Aircraft, Aerotek Inc, Moseley Technical Services Inc | Working in Multiple Cities Throughout Maryland, MD | May 21, 2019.
95,935O | The Boeing Company, Boeing Commercial Aircraft (BCA) | Waterford Township, MI | May 21, 2019.
95,935P | The Boeing Company, Boeing Commercial Aircraft (BCA) | Eagan, MN | May 21, 2019.
95,935Q | The Boeing Company, Boeing Commercial Aircraft (BCA), PDS Technical Services, Volt Services | Working in Multiple Cities Throughout Mississippi, MS | May 21, 2019.
95,935R | The Boeing Company, Boeing Commercial Aircraft, ALKU Technologies, American Cybersystems, etc | Working in Multiple Cities Throughout Missouri, MO | May 21, 2019.
95,935S | The Boeing Company, Boeing Commercial Aircraft (BCA) | Helena, MT | May 21, 2019.
95,935T | The Boeing Company, Boeing Commercial Aircraft (BCA), PDS Technical Services | Working in Multiple Cities Throughout New Jersey, NJ | May 21, 2019.
95,935U | The Boeing Company, Boeing Commercial Aircraft (BCA), Moseley Technical Services, etc | Working in Multiple Cities Throughout New Mexico, NM | May 21, 2019.
95,935V | The Boeing Company, Boeing Commercial Aircraft (BCA) | New York, NY | May 21, 2019.
95,935W | The Boeing Company, Boeing Commercial Aircraft, Chipton Ross Inc., Chipton Ross Inc. (Nevada) | Working in Multiple Cities Throughout N. Carolina, NC | May 21, 2019.
95,935X | The Boeing Company, Boeing Commercial Aircraft, Chipton Ross, Chipton Ross (Nevada), ICONMA LLC | Working in Multiple Cities Throughout Ohio, OH | May 21, 2019.
95,935Y | The Boeing Company, Boeing Commercial Aircraft (BCA), American Cybersystems, etc | Working in Multiple Cities Throughout Oklahoma, OK | May 21, 2019.
95,935Z | The Boeing Company, Boeing Commercial Aircraft (BCA), Aerotek, American Cybersystems, etc | Working in Multiple Cities Throughout Pennsylvania, PA | May 21, 2019.

The following certifications have been issued. The requirements of Section 222(a)(2)(B) (Shift in Production or Services to a Foreign Country Path or Acquisition of Articles or Services from a Foreign Country Path) of the Trade Act have been met.

TA-W No. | Subject firm | Location | Impact date
95,460 | The Nielsen Company (US) LLC, Nielsen Holdings PLC, Adecco, TCS (Tata Consultancy Services) | Green Bay, WI | May 20, 2019.
95,460A | The Nielsen Company (US) LLC, Nielsen Holdings PLC, Adecco, TCS (Tata Consultancy Services) | Fond Du Lac, WI | December 6, 2018.
95,478 | McKesson Medical-Surgical, Inc., Credit Group, McKesson Corporate | Farmington, CT | December 13, 2018.
95,507 | NortonLifeLock, Inc., Symantec, Albers & Company, PRO Unlimited, Adams St. Advocates, etc | Herndon, VA | December 20, 2018.
95,645 | State Street Bank & Trust Co., Income Processing COE Division, State Street Corporation, Robert Half | North Quincy, MA | February 3, 2019.
95,748 | Aclara Meters LLC, Aclara Technologies, Hubbell Inc., NESC Staffing | Somersworth, NH | February 28, 2019.
95,768 | State Street Bank & Trust Co., Investible Cash, USIS Global Operation, Cash & Custody, State Street | North Quincy, MA | March 3, 2019.
95,792 | Littelfuse, Inc., Symcom Division, Adecco, Kelly Services | Rapid City, SD | March 6, 2019.
95,808 | Dispensing Dynamics International, Inc., Hunter Industries, Inc., Aerotek, 1020 Bixby Drive | City of Industry, CA | March 11, 2019.
95,808A | Dispensing Dynamics International, Inc., Hunter Industries, Inc., Aerotek, 16425 Gale Avenue | City of Industry, CA | March 11, 2019.
95,845 | Danfoss, LLC, CC division, SMX—Temporary Staffing | Arkadelphia, AR | March 24, 2019.
95,871 | H&R Block Network Operations Center, HRB Professional Resources, LLC | Kansas City, MO | April 3, 2019.
95,900 | Startek | Greenwood Village, CO | April 23, 2019.
95,900A | Startek | Grand Junction, CO | April 23, 2019.
95,903 | Powerohm Resistors, Hubbell Industrial Controls, Adecco, Randstad Manufacturing and Logistics | Katy, TX | April 27, 2019.
95,905 | Donaldson Company, Inc., Stevens Point Manufacturing Plant, ABR Employment Services, etc | Stevens Point, WI | April 29, 2019.
95,913 | JCPenney Corporate/Home Office, Technology Operations & Support | Plano, TX | May 5, 2019.
95,922 | Caterpillar Inc., Construction Industries segment, Excavation, Aditi Consulting, etc. | Victoria, TX | May 14, 2019.
95,981 | Aludyne-New York, Aludyne | Batavia, NY | June 11, 2019.
96,007 | Nikki America Fuel Systems, LLC, Nikki America, Inc., Surge Staffing | Auburn, AL | June 19, 2019.

The following certifications have been issued. The requirements of Section 222(b) (downstream producer to a firm whose workers are certified eligible to apply for TAA) of the Trade Act have been met.

TA-W No. | Subject firm | Location | Impact date.
95,658 | LEDVANCE LLC, LEDVANCE Holdings, LLC | Bethlehem, PA | February 16, 2020.
95,658A | National Freight (NFI) and Vangaurd Cleaning, LEDVANCE LLC, LEDVANCE Holdings, LLC | Bethlehem, PA | February 5, 2019.

The following certifications have been issued. The requirements of Section 222(e) (firms identified by the International Trade Commission) of the Trade Act have been met.

TA-W No. | Subject firm | Location | Impact date
95,630 | Elite Comfort Solutions LLC, Tec Staffing Services, WorkSource, Inc. | Fort Smith, AR | December 12, 2018.
95,896 | Blue Bell Mattress Co., LLC | Roseville, MI | December 12, 2018.
95,940 | FXI, Inc., Auburn Plant, FXI Holdings, Adecco, Peoplelink Staffing, etc | Auburn, IN | December 12, 2018.
95,958 | Cambria Fabshop—Indianapolis LLC | Greenfield, IN | July 5, 2018.

Negative Determinations for Worker Adjustment Assistance

In the following cases, the investigation revealed that the eligibility criteria for TAA have not been met for the reasons specified.

The investigation revealed that the requirements of Trade Act section 222 (a)(1) and (b)(1) (significant worker total/partial separation or threat of total/partial separation), or (e) (firms identified by the International Trade Commission), have not been met.

TA-W No. | Subject firm | Location | Impact date
95,326 | Jaguar Land Rover North America, LLC, Network Development, Jaguar Land Rover Limited | Mahwah, NJ.

The investigation revealed that the criteria under paragraphs(a)(2)(A) (increased imports), (a)(2)(B) (shift in production or services to a foreign country or acquisition of articles or services from a foreign country), (b)(2) (supplier to a firm whose workers are certified eligible to apply for TAA or downstream producer to a firm whose workers are certified eligible to apply for TAA), and (e) (International Trade Commission) of section 222 have not been met.

TA-W No. | Subject firm | Location | Impact date
95,110 | Black & Decker (U.S.) Inc., Stanley Black & Decker, Inc., Nesco, Kelly Services | Georgetown, OH.
95,229 | StarMark Cabinetry, ProForce Services | Sioux Falls, SD. |
95,294 | Gardner Denver Petroleum Pumps, LLC, Altoona Plant, Gardner Denver Inc | Altoona, PA.
95,321 | Merit Gear LLC, Rexnord Industries, LLC | Antigo, WI.
95,340 | Realogy Operations LLC, Technology and Data, Realogy Group, Realogy Holdings Corp., etc | Danbury, CT.
95,359 | Arrow Electronics, Inc., Global Asset Disposition division | Windsor, CT.
95,400 | Gibson County Coal, LLC, Gibson South Mine, Alliance Resource Partners, L.P., etc | Owensville, IN.
95,400A | Gibson County Coal, LLC, Gibson North Mine, Alliance Resource Partners, L.P., etc | Princeton, IN.
95,415 | Integrity Bio-Fuels, LLC | Morristown, IN.
95,444 | EGS Financial Care, Inc., Alorica, Inc. | Jackson, MI.
95,508 | Ubiquiti Inc., Research and Development Group, EdgeLink LLC | Portland, OR.
95,522 | Wildcat Hills, Peabody Energy, Custom Staffing Solutions, GMS Mine Repair, etc | Equality, IL.
95,699 | Bank Of America, N.A., Global Technology and Operations, Trust Banking, Pontoon Solutions, etc | Riverside, RI.

Determinations Terminating Investigations of Petitions for Trade Adjustment Assistance

After notice of the petitions was published in the Federal Register and on the Department's website, as required by Section 221 of the Act (19 U.S.C. 2271), the Department initiated investigations of these petitions.

The following determinations terminating investigations were issued because the petitioner has requested that the petition be withdrawn.

TA-W No. | Subject firm | Location | Impact date
95,505 | LinkOne Solutions, LLC | Stanfield, OR
95,794 | Saint-Gobain Ceramics and Plastics, Inc., Corhart Refractories, SEFPRO division | Buckhannon, WV
95,907 | Larco, Inc | Crossett, AR
96,005 | Bank of New York Mellon, Project Management Office, CSD Division | Oriskany, NY

The following determinations terminating investigations were issued because the worker group on whose behalf the petition was filed is covered under an existing certification.

TA-W No. | Subject firm | Location | Impact date
95,258 | Lufkin Industries, LLC | Lufkin, TX

The following determinations terminating investigations were issued because the petitioning group of workers is covered by an earlier petition that is the subject of an ongoing investigation for which a determination has not yet been issued.

TA-W No. | Subject firm | Location | Impact date
95,904 | Utility Trailer Manufacturing Company, Express Employment Professionals, Hometown Employment | Paragould, AR

I hereby certify that the aforementioned determinations were issued during the period of June 1, 2020 through June 30, 2020. These determinations are available on the Department's website https://www.doleta.gov/tradeact/petitioners/taa_search_form.cfm under the searchable listing determinations or by calling the Office of Trade Adjustment Assistance toll free at 888-365-6822.

Signed at Washington, DC, this 9th day of July 2020.
Hope D. Kinglock,
Certifying Officer, Office of Trade Adjustment Assistance.

[FR Doc. 2020-16633 Filed 7-30-20; 8:45 am]

BILLING CODE 4510-FN-P